ENVIRONMENTAL PROTECTION AGENCY

[FRL-8268-7]

Proposed Reissuance of General NPDES Permit (GP) for Alaskan Small Suction Dredging (Permit Number AKG-37-5000)

AGENCY: Environmental Protection Agency, (EPA).

ACTION: Notice of proposed reissuance of a general permit.

SUMMARY: On June 4, 2007, a general permit regulating the activities of small suction dredge mining for gold placer mining operations in the State of Alaska expires. EPA proposes to reissue this general permit with minor changes. EPA is proposing to make this permit effective as the previous general permit expires.

DATES: Interested persons may submit comments on the proposed reissuance of the general permit to EPA, Region 10 at the address below. Comments must be received by March 2, 2007.

ADDRESSES: Comments on the proposed General Permit should be sent to Director, Office of Water and Watersheds; USEPA Region 10; 1200 Sixth Avenue, OWW-130; Seattle, Washington 98101.

FOR FURTHER INFORMATION CONTACT: Copies of the Fact Sheet and draft General Permit are available upon request. The Fact Sheet and draft General Permit may be found on the Region 10 Web site at http://www.epa.gov/r10earth/waterpermits.htm (click on draft permits, then Alaska).

Requests for copies may be made to Audrey Washington at (206) 553-0523 or to Cindi Godsey at (907) 271-6561 or electronically mailed to: washington.audrey@epa.gov or godsey.cindi@epa.gov.

SUPPLEMENTARY INFORMATION:

Executive Order 12866

The Office of Management and Budget has exempted this action from the review requirements of Executive Order 12866 pursuant to Section 6 of that order.

Regulatory Flexibility Act

After review of the facts presented in the notice printed above, I hereby certify pursuant to the provision of 5 U.S.C. 605(b) that this reissuance of this general permit will not have a significant impact on a substantial number of small entities. Moreover, the permit reduces a significant administrative burden on regulated sources.

Dated: January 5, 2007.
Michael F. Gearheard,
Director, Office of Water & Watersheds, Region 10, U.S. Environmental Protection Agency.

[FR Doc. E7-410 Filed 1-12-07; 8:45 am]

BILLING CODE 6560-50-P